DEPARTMENT OF COMMERCE

National Oceanic and Atmospheric Administration

[Docket No. 051012261-5261-01; I.D. 092605A]

RIN 0648-AT68

2006 Atlantic Sea Scallop Research Set-Aside Program

AGENCY: National Marine Fisheries Service (NMFS), National Oceanic and Atmospheric Administration (NOAA), Commerce.

ACTION: Notice.

SUMMARY: NMFS requests research proposals for fishing year 2006 (March 1, 2006 - February 28, 2007) to utilize portions of the total allowable catch (TAC) and Days-at-Sea (DAS) allowance in the Atlantic sea scallop fishery that have been set aside by the New England Fishery Management Council (Council) for sea scallop research endeavors under a research set-aside (RSA) program. The program provides a mechanism to fund research and compensate vessel owners through the sale of fish harvested under the research quota. Vessels participating in an approved research project may be authorized by the Administrator, Northeast Region, NMFS (Regional Administrator), to harvest and land species in excess of any imposed trip limit or to harvest and land during fishery closures. Landings from such trips would be sold to generate funds that would help defray the costs associated with research projects. No Federal funds will be provided for research under this notification.

DATES: Applications must be received by NMFS no later than 5 p.m. EDT, November 18, 2005.

ADDRESSES: Electronic application submissions must be transmitted on-line through http://www.grants.gov. Applications submitted through http://www.grants.gov will be accompanied by a date and time receipt indication on them. Since delays may be experienced when registering with Grants On-line near the end of a solicitation period, NOAA strongly recommends that you do not wait until the application deadline to begin the on-line application process. If an applicant does not have Internet access, hard copy proposals will be accepted, and the date will be recorded when the proposals are received in the program office. Paper applications must be sent to NMFS, Northeast Regional Office, One Blackburn Drive, Gloucester, MA 01930. Electronic or hard copies received after the deadline will not be considered, and hard copy applications will be returned to the sender.

FOR FURTHER INFORMATION CONTACT: Information on the Atlantic Sea Scallop Fishery Management Plan (FMP), as it relates to this funding opportunity, contact Andrew Applegate, New England Fishery Management Council, by phone (978) 465-0492, or Paul Perra, NMFS, by phone (978) 281-9153, fax (978) 281-9135, or email Paul.Perra@noaa.gov.

SUPPLEMENTARY INFORMATION:

Electronic Access

Application information is available at http://www.grants.gov. Electronic copies of the Standard Forms for submission of research proposals may be found on the Internet in a PDF (Portable Document Format) version at http://www.ago.noaa.gov/grants/appkit.shtml. Applicants without Internet access can contact Rich Maney, NMFS, Northeast Regional Office, One Blackburn Drive, Gloucester, MA 01930, by phone 978-281-9265, by fax 978-281-9117, or by email at Rich.Maney@noaa.gov.

For a copy of the full funding opportunity announcement for this request for proposals and to apply for this NOAA Federal funding opportunity, please go to http://www.grants.gov and use the following funding opportunity number: NMFS-NERO-2006-2000403.

Background

For fishing year 2006, the Council has set aside portions of the TAC and DAS allowance in the sea scallop fishery to be used for sea scallop research endeavors under a RSA program. The RSA program provides a mechanism to fund research and compensate vessel owners through the sale of fish harvested under the research quota. Research proposals are, therefore, sought to utilize the three set-asides implemented by Amendment 10 to the Atlantic Sea Scallop Fishery Management Plan (Amendment 10) (69 FR 35194, June 23, 2004), and Frameworks 16 to the Atlantic Sea Scallop FMP and 39 to the Northeast Multispecies FMP (Joint Frameworks) (69 FR 63460, November 2, 2004). For Scallop Fishing Year 2006, with the scallop value estimated at $4.95 per lb, the values of TAC and DAC are estimated as follows: (1) The DAS set-aside for the open fishing areas is 373 DAS, with an average catch rate of 1,900 lb/DAS (862 kg/DAS) and value of $3,508,065; (2) the research TAC set-aside for the Closed Area (CA) I Access Area is 56,482 lb (26 mt), with a value of $279,586; and (3) the research TAC set-aside for the Nantucket Lightship Access Area (NLAA) is 135,937 lb (62 mt), with a value of $672,888. Thus, for fishing year 2006, the total value of the set-asides available for scallop-related research is approximately $4,460,539 (79 percent from the open area DAS set-aside, 6 percent from the CA I, and 15 percent from the NLAA). Researchers must specify the amount of set-aside (TAC or DAS, as appropriate) sought from each area.

Under the area access program implemented by Amendment 10, limited access sea scallop vessels will be allowed to land scallops in excess of the proposed possession limit or to take additional trips above those proposed in the area access program. The proceeds of the excess catch or additional trips may be used by such vessels to offset the costs of the research proposals submitted in response to this notice. The access areas will remain open until one of four events trigger a closure: (1) The fishing year ends (February 28, 2007); (2) finfish catches exceed TACs established by the Joint Frameworks; (3) the vessels use all of the trips authorized under the area access program; or (4) the fishing season, as established by the Joint Frameworks, ends.

Amendment 10 expanded the RSA program to all areas where scallop fishing occurs, including regular open fishing areas. For each fishing year, 2 percent of the total allowable DAS allocations will be set-aside for scallop related research activities, before determining annual fishing allocations for limited access scallop vessels. This pool of DAS is available for authorized research projects under which vessels may participate in scallop research programs and/or conduct trips to compensate for research expenses incurred. The vessel may be authorized to conduct additional trips of a specified duration that will not be counted against the vessel's annual DAS allocation as compensation.

Vessels participating in an approved project and fishing in a Sea Scallop Access Area, will be authorized by the Regional Administrator to: Take additional trips into the area(s) and/or to land scallops in excess of the possession limits established by the Joint Frameworks (18,000 lb or 8,165 kg for full-time vessels, 14,400 lb or 6,532 kg for part-time vessels, and 3,000 lb or 1,361 kg for occasional vessels).

Funding Availability

No Federal funds are provided for research under this notification, but rather the opportunity to fish and sell the catch to generate income. The Federal Government's contribution to the project will be a Letter of Authorization (LOA) that will provide special fishing privileges in response to sea scallop research proposals selected to participate in this program. Funds generated from landings harvested and sold under the Scallop RSA Program shall be used to cover the cost of research activities, including vessel costs. For example, the funds may be used to pay for gear modifications, monitoring equipment, the salaries of research personnel, or vessel operation costs. The Federal Government shall not be liable for any costs incurred in the conduct of the project. Specifically, the Federal Government is not liable for any costs incurred by the researcher or vessel owner should the sale of catch not fully reimburse the researcher or vessel owner for his/her expenses. In the past, 2-6 awards have been approved each fishing year. During the 2005 fishing year, six awards were approved, distributing a total of 290,634 lb of TAC and 220 DAS.

Statutory Authority

Issuing grants is consistent with sections 303(b)(11), 402(e), and 404(c) of the Magnuson-Stevens Fishery Conservation and Management Act, 16 U.S.C. 1853(b)(11), 16 U.S.C. 1881a(e), and 16 U.S.C. 1881(c), respectively.

The ability to set aside scallop TAC and DAS was established through Amendment 10 (69 FR 35194, June 23, 2004), and Joint Frameworks (69 FR 63460, November 2, 2004).

CFDA Number

In the Catalog of Federal Domestic Assistance, the program number is 11.454, and the program name is Unallied Management Projects.

Eligibility

1. Eligible applicants are institutions of higher education, hospitals, other nonprofits, commercial organizations, individuals, state, local and Indian tribal governments. Federal agencies or institutions are not eligible to receive Federal assistance under this notice. Also, a person is not eligible to submit an application under this program if he/she is an employee of any Federal agency. Fishery Management Council members who are not Federal employees may submit an application.

2. DOC/NOAA supports cultural and gender diversity and encourages women and minority individuals and groups to submit applications to the RSA program. In addition, DOC/NOAA is strongly committed to broadening the participation of historically black colleges and universities, Hispanic serving institutions, tribal colleges and universities, and institutions that work in under served areas. DOC/NOAA encourages proposals involving any of the above institutions.

3. DOC/NOAA encourages applications from members of the fishing community and applications that involve fishing community cooperation and participation.

Cost Sharing Requirements

None required.

Evaluation and Selection Procedures

NMFS will solicit written technical evaluations from the Council members who make up the Scallop Committee and Research Steering Committee (Committees), and from three or more appropriate private and public sector experts (e.g., scallop industry, academia, or governmental experts) to determine the technical merit of the proposal and to provide a rank score of the project based on the criteria described in the Evaluation Criteria section of this document. Following completion of the technical evaluation, NMFS will convene a review panel, containing members from the Committees and technical experts, to review and individually critique the scored proposals to enhance NOAA's understanding of the proposals. Initial successful applicants may be required, in consultation with NMFS, to further refine/modify the study methodology as a condition of project approval. No consensus recommendations will be made by the Committee members, technical experts, or by the review panel.

The merit review ratings shall provide a rank order to the Selecting Official (Regional Administrator) for final funding recommendations. A program officer may first make recommendations to the Selecting Official applying the selection factors. The Selecting Official shall award in the rank order unless the proposal is justified to be selected out of rank order based upon one or more of the factors listed under Selection Factors.

Evaluation Criteria

1. Importance and/or relevance and applicability of the proposed project: This criterion ascertains whether there is intrinsic value in the proposed work and/or relevance to NOAA, Federal, regional, state, or local activities. For the 2006 RSA program, applicants must provide a clear definition of the problem, need, issue, or hypothesis to be addressed. The proposal should describe its relevance to RSA program priorities and detail how the data gathered from the research will be used to enhance the understanding of the fishery resource or contribute to the body of information on which management decisions are made. (30 points)

2. Technical/scientific merit: This criterion assesses whether the approach is technically sound and/or innovative, if the methods are appropriate, and whether there are clear project goals and objectives. For the 2006 RSA Program, proposals should provide a clear definition of the approach to be used, including descriptions of field work, theoretical studies, and laboratory analysis to support the proposed research. (15 points)

3. Overall qualifications of the project: This criterion assesses whether the applicant and team members possess the necessary education, experience, training, facilities, and administrative resources to accomplish the project. For the 2006 RSA Program, proposals should provide adequate justification as to how the project is likely to achieve its stated objectives. Projects should demonstrate support, cooperation, and/or collaboration with the fishing industry. (35 points)

4. Project costs: This criterion evaluates the budget to determine if it is realistic and commensurate with the project needs and time frame. For the 2006 RSA program, cost-effectiveness of the project will be considered. (10 points)

5. Outreach and education: This criterion assesses whether the project involves a focused and effective education and outreach strategy regarding NOAA's mission to protect the Nation's natural resources. For the 2006 RSA Program, proposals should provide identification of anticipated benefits, potential users, likelihood of success, and methods of disseminating results. (10 points)

Selection Factors:

1. Availability of funding.

2. Balance/distribution of funds:

a. Geographically

b. By type of institutions

c. By type of partners

d. By research areas

e. By project types

3. Whether this project duplicates other projects funded or considered for funding by NOAA or other Federal agencies.

4. Program priorities and policy factors.

5. Applicant's prior award performance.

6. Partnerships and/or participation of targeted groups.

7. Adequacy of information necessary to conduct a National Environmental Policy Act (NEPA) analysis and determination.

Key program policy factors (see item 4 above) to be considered by the Selecting Official are: (1) The time of year the research activities are to be conducted; (2) the ability of the proposal to meet the applicable experimental fishing requirements; (3) redundancy of research projects; and (4) logistical concerns. Therefore, the highest scoring projects may not necessarily be selected for an award. All approved research must be conducted in accordance with provisions approved by NOAA, and, if needed, provided in an Exempted Fishing Permit (EFP) issued by NMFS. Unsuccessful applications will be returned to the submitter. Successful applications will be incorporated into the award document.

For proposals that request exemptions from existing regulations (e.g., possession limits, closed areas, etc.), the impacts of the proposed exemptions must be analyzed. Any applicants who request regulatory exemptions that extend beyond the DAS or TAC set-aside implemented in Amendment 10 or the Joint Frameworks may be required to adhere to the regulations governing the issuance of an EFP by NMFS. As appropriate, NMFS will consult with the Council and successful applicants to secure the information required for granting an exemption if issuance of an EFP is necessary for the research to be conducted. No research or usage of research TAC or DAS will be allowed until NMFS notifies the applicant that the applicant's EFP request is approved.

NEPA Requirements

NOAA must analyze the potential environmental impacts, as required by NEPA, for applicant projects or proposals which are seeking NOAA Federal assistance opportunities, including special fishing privileges. Detailed information on NOAA compliance with NEPA can be found at the following website: http://www.nepa.noaa.gov/ including NOAA Administrative Order 216-6 for NEPA at: http://www.nepa.noaa.gov/NAO216_6_TOC.pdf, and the Council on Environmental Quality implementation regulations at: http://ceq.eh.doe.gov/nepa/regs/ceq/toc_ceq.htm.

Consequently, as part of an applicant's package, and under the description of program activities, applicants are required to provide detailed information on the activities to be conducted, locations, sites, species, and habitat to be affected, possible construction activities, and any environmental concerns that may exist (e.g., the use and disposal of hazardous or toxic chemicals, introduction of non-indigenous species, impacts to endangered and threatened species, aquaculture projects, and impacts to coral reef systems). The impacts of the TAC and DAS set-asides were analyzed in the Final Supplemental Environmental Impact Statement for Amendment 10, and the Joint Frameworks' associated Environmental Assessment. Therefore, if the applicant does not request additional regulatory exemptions beyond the use of RSA TAC and/or DAS, additional NEPA analysis may not be required. However, if the research proposal requests exemptions from regulations that extend beyond the TAC and DAS RSA, applicants may be required to provide additional specific information that will serve as the basis for any required impact analyses. Applicants may also be requested to assist NOAA in drafting an environmental assessment if NOAA determines such an assessment is required. Applicants will also be required to cooperate with NOAA in identifying and implementing feasible measures to reduce or avoid any identified adverse environmental impacts associated with their proposed research activity. The failure to do so shall be grounds for the denial of an application.

Pre-Award Notification Requirements for Grants and Cooperative Agreements

The Department of Commerce Pre-Award Notification Requirements for Grants and Cooperative Agreements contained in the Federal Register notice of December 30, 2004 (69 FR 78389), is applicable to this solicitation.

Reporting Requirements

Recipients will be required to submit the following financial and performance (technical) reports. These reports are to be submitted electronically unless the recipient does not have Internet access, in which case hard copy submissions will be accepted. Financial Status Reports (SF-269 and SF-272) are required to be submitted to the Grants Officer semi-annually. Performance or progress reports are required to be submitted to the NOAA Program Officer semi-annually. These reports will be due no later than 30 days following the end of each six-month period from the start date of an award. The final report is due 90 days after the award expiration.

The format of the final report may vary, but the report must contain:

1. A brief summary of the completion report (200-word or less abstract);

2. A description of the issue/problem that was addressed;

3. A detailed description of methods of data collection and analyses;

4. A discussion of results and any relevant conclusions presented in a format that is understandable to a non-technical audience. This should include benefits and/or contributions to management decision-making;

5. A list of entities, firms, or organizations that actually performed the work, and a description of how the work was accomplished;

6. A detailed final accounting of all the fish landed, sold, and the disbursement of program income to include a detailed accounting of all funds used to conduct fish research, including those provided through the research set-aside; and

7. Data from research projects must be submitted in electronic format with appropriate documentation to NMFS, as requested. All raw data collected under grants issued as a result of this solicitation belongs to, and shall remain the property of the Federal government. Grantees will be required to collect, assimilate, maintain and transmit any and all raw data in a format and time frame that may be specified by NMFS.

Universal Identifier

Applicants should be aware that they are required to provide a Dun and Bradstreet Data Universal Numbering System (DUNS) number during the application process. See the October 30, 2002 (67 FR 66177) Federal Register for additional information. Organizations can receive a DUNS number at no cost by calling the dedicated toll-free DUNS Number request line at 1-866-705-5711 or via the internet http://www.dunandbradstreet.com.

Executive Order 12372

Applications under this program are subject to Executive Order 12372, “Intergovernmental Review of Federal Programs.”

Limitation of Liability

Funding for programs listed in this notice is contingent upon the availability of fishing year 2006 scallop TAC and/or DAS. In no event will NOAA or DOC be responsible for application preparation costs if these programs fail to receive a TAC or DAS award, or are cancelled because of other agency priorities. Publication of this announcement does not oblige NOAA to award any specific project or to obligate any available funds.

Paperwork Reduction Act (PRA)

This document contains collection-of-information requirements subject to the PRA. The use of Standard Forms 424, 424A, 424B, SF-LLL, CD-346, SF269 and SF272 has been approved by the Office of Management and Budget (OMB) under the respective OMB control numbers 0348-0043, 0348-0044, 0348-0040, 0348-0046, 0605-0001, 0348-0039 and 0348-0003. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act (APA)/Regulatory Flexibility Act (RFA)

Prior notice and an opportunity for public comment are not required by the APA or any other law for rules concerning public property, loans, grants, benefits, and contracts (5 U.S.C. 553(a)(2)). Because notice and opportunity for comment are not required pursuant to 5 U.S.C. 553 or any other law, the analytical requirements of the RFA (5 U.S.C. 601 et seq.) do not apply. Therefore, a regulatory flexibility analysis has not been prepared.

Dated: October 13, 2005.
James W. Balsiger,
Acting Deputy Assistant Administrator for Regulatory Programs, National Marine Fisheries Service.

[FR Doc. 05-20939 Filed 10-18-05; 8:45 am]

BILLING CODE 3510-22-S